Proclamation 8560 of September 10, 2010

National Grandparents Day, 2010

By the President of the United States of America

A Proclamation

Throughout our history, American families have been guided and strengthened by the support of devoted grandparents. These mentors have a special place in our homes and communities, ensuring the stories and traditions of our heritage are passed down through generations. On National Grandparents Day, we honor those who have helped shape the character of our Nation, and we thank these role models for their immeasurable acts of love, care, and understanding.

Grandparents witness great milestones in the lives of their children and grandchildren. Whether with us when we learn to read or ride a bicycle, they celebrate early triumphs, console us when we are distressed, and cultivate our dreams. Through decades of hard work and sacrifice, our forebears have also enabled many of the rights and opportunities now accessible to all Americans. As a country and a people, our grandparents have made us who we are today.

National Grandparents Day presents a chance to show our profound appreciation and respect for the central roles that family elders play in our lives. The legacy of these selfless caregivers is not only reflected in the principles and sense of purpose they inspire in their loved ones, but also in their unique ability to reach across ages and enrich the lives of generations of Americans.

NOW, THEREFORE, I, BARACK OBAMA, President of the United States of America, by virtue of the authority vested in me by the Constitution and the laws of the United States, do hereby proclaim September 12, 2010, as National Grandparents Day. I call upon all Americans to take the time to honor their own grandparents and those in their community.

IN WITNESS WHEREOF, I have hereunto set my hand this tenth day of September, in the year of our Lord two thousand ten, and of the Independence of the United States of America the two hundred and thirty-fifth.

[FR Doc. 2010-23202

Filed 9-14-10; 11:15 am]

Billing code 3195-W0-P